NATIONAL AERONAUTICS AND SPACE ADMINISTRATION

[Notice 07-023]

National Space-Based Positioning, Navigation, and Timing (PNT) Advisory Board; Meeting

AGENCY: National Aeronautics and Space Administration.

ACTION: Notice of meeting.

SUMMARY: In accordance with the Federal Advisory Committee Act (Pub. L. 92-463, as amended), and the President's 2004 U.S. Space-Based Positioning, Navigation and Timing (PNT) Policy, the National Aeronautics and Space Administration announces a meeting of the National Space-Based Positioning, Navigation, and Timing (PNT) Advisory Board.

DATES: Thursday, March 29, 2007, 9 a.m. to 5 p.m.; and Friday, March 30, 2007, 9 a.m. to 1 p.m.

ADDRESSES: Ronald Reagan Building and International Trade Center, 1300 Pennsylvania Ave., NW., Polaris Suite, Washington, DC 20004.

FOR FURTHER INFORMATION CONTACT: Mr. James J. Miller, Space Operations Mission Directorate, National Aeronautics and Space Administration, Washington, DC 20546, (202) 358-4417.

SUPPLEMENTARY INFORMATION: The meeting will be open to the public up to the seating capacity of the room. The agenda for the meeting includes the following topics:

• Update on Implementation of the President's 2004 U.S. Space-Based Positioning, Navigation and Timing (PNT) Policy.

• Overview of National Space-Based PNT Executive Committee, and National Space-Based PNT Coordination Office.

• Status Update on Global Positioning System (GPS) Constellation and Modernization Plans.

• Maintaining U.S. GPS Technological Leadership and Competitiveness.

• Promoting and Branding Current and Future PNT Capabilities to the U.S. and International Communities.

• Global Technical and Market Trends for PNT Services.

It is imperative that the meeting be held on these dates to accommodate the scheduling priorities of the key participants. Visitors will be requested to sign a visitor's register.

Dated: March 8, 2007.
P. Diane Rausch,
Advisory Committee Management Officer, National Aeronautics and Space Administration.

[FR Doc. E7-4557 Filed 3-12-07; 8:45 am]

BILLING CODE 7510-13-P